ENVIRONMENTAL PROTECTION AGENCY

[FRL-6906-8]

Agency Information Collection Activities: Submission for OMB Review; Comment Request; Emission Control System Performance Warranty Regulations and Voluntary Aftermarket Part Certification Program

AGENCY: Environmental Protection Agency (EPA).

ACTION: Notice.

SUMMARY: In compliance with the Paperwork reduction Act (44 U.S.C.3501 et seq.), this document announces that the following Information Collection request (ICR) has been forwarded to the Office of Management and Budget (OMB) for review and approval: Emission Control System Performance Warranty Regulations and Voluntary Aftermarket Part Certification Program, OMB Control Number 2060-0060, expiration date 11/30/00. This ICR describes the nature of the information collection and its expected burden and cost; where appropriate, it includes the actual data collection instrument.

DATES: Comments must be submitted on or before December 26, 2000.

ADDRESSES: Send comments, referencing EPA ICR No. 0116.06 and OMB control No. 2060-0060, to the following addresses: Sandy Farmer, U.S. Environmental Protection Agency, Collection Strategies Division (Mail Code 2822), 1200 Pennsylvania Avenue, N.W., Washington, DC 20460; and to the Office of information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by E-Mail at Farmer.Sandy@epamail. epa.gov or download off the Internet at http://www.epa.gov/icr and refer to EPA ICR No. 0116.06. For technical questions about the ICR, contact Chestine Payton at (202) 564-9328, fax (202) 565-2057. E-mail address: payton,chestine@epa.gov.

SUPPLEMENTARY INFORMATION: Title: Emission Control System Performance Warranty Regulations and Voluntary Aftermarket Part Certification Program, OMB Control Number 2060-0060, EPA ICR Number 0116.06 expiring 11/30/00. This is a request for extension of a currently approved collection.

Abstract: The Vehicle Compliance Programs Group (VCPG), Vehicle Programs and Compliance Division (VCPD) Office of Mobile Sources, used this information to ensure that the part to be certified actually performs as required. The information collected is the minimal necessary to ensure that the part to be certified performs as required. Without this information EPA would have no way to control and audit fraudulent or marginal submissions. Information is only collected when the part to be certified is tested, thus assuring a means of documenting that the part was properly designed. EPA would not be able to control the self-certification of parts and this could cause vehicles to fail emissions standards.

The information collected is part of the requirement of section 207(a) of the Clean Air Act, as described in section 40 CFR part 85, subpart V. This is a voluntary certification program and there is no requirement that any manufacturer participate.

The total estimated involvement of the aftermarket part industry (replacement and specialty parts) is two per year.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 2, 2000 (65 FR 47493); no comments were received.

Burden Statement: The annual public reporting and recordkeeping burden for this collection of information is estimated to average 861 hours per response. EPA's burden estimate for this information collection is broken down into three parts: reporting, testing and recordkeeping. EPA estimates that the reporting burden will be 174 hours, testing 1,540 hours and annual recordkeeping 8 hours. The estimation of respondent burden in hours is based on Certification burden estimates for vehicle manufacturers compiled in the April 1985 Information Collection Report for the basic vehicle certification program. Burden means the total time, effort, or financial resources expended by persons to generate, maintain, retain, or disclose or provide information to or for a federal agency. This includes the time needed to review instructions; develop, acquire, install, and utilize technology and systems for the purpose of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Automotive manufacturers and builders of automotive aftermarket parts;

Estimated Number of Respondents: 2.

Frequency of Response: On occasion.

Estimated Total Annual Hour Burden: 1,722 hours.

Estimated Total Annualized Capital, O&M Cost Burden: $0.

Send comments on the Agency's need for this information, the accuracy of the provided burden estimates, and any suggested methods for minimizing respondent burden, including through the use of automated collection techniques to the following address. Please refer to EPA ICR No. 0116.06 and OMB Control No. 2060-0060 in any correspondence.

Dated: November 8, 2000.
Oscar Morales, Director,
Collection Strategies Division.

[FR Doc. 00-30008 Filed 11-22-00; 8:45 am]

BILLING CODE 6560-50-P